NATIONAL SCIENCE FOUNDATION

Notice of the Networking and Information Technology Research and Development Program's Advanced Wireless Test Platform (AWTP) Team and the Federal Mobility Group (FMG) Virtual Joint 5G Workshop

AGENCY: Networking and Information Technology Research and Development (NITRD) National Coordination Office (NCO), National Science Foundation.

ACTION: Notice of virtual workshop.

SUMMARY: The NITRD Advanced Wireless Test Platform (AWTP) Team and Federal Mobility Group (FMG) Joint 5G Workshop will consist of two half-day sessions with a focus on advancing the FMG work product—Framework to Conduct 5G Testing—by exploring its applicability to specific 5G inspired use cases. It will provide moderated exercises where participants will walk through the process identified in the framework document, with two selected Federal 5G use cases. The goal is to provide an overview of the process and the testing framework elements needed to conduct 5G testing for different use cases. It will also allow participants to learn about Federal 5G use cases and requirements from key stakeholders. The intended outcomes of this workshop are to build awareness of the critical need for evolving 5G best-in-class test practices, and to connect 5G labs or testbeds with Federal agencies and 5G component vendors.

DATES: April 27-28, 2021.

ADDRESSES: The AWTP and FMG Joint 5G Workshop will be held virtually through Zoom for Government.

Instructions: Registration is required; registration link will be available a week before the workshop. For more information on the workshop, agenda, and registration, please see the workshop website: https://www.nitrd.gov/nitrdgroups/index.php?title=AWTP-FMG-Joint-5G-Workshop.

FOR FURTHER INFORMATION CONTACT: Mallory Hinks at AWTP-FMG-5G-Workshop@nitrd.gov, or via phone at 202-459-9674. Individuals who use a telecommunications device for the deaf (TDD) may call the Federal Information Relay Service (FIRS) at 1-800-877-8339 between 8 a.m. and 8 p.m., Eastern time, Monday through Friday.

SUPPLEMENTARY INFORMATION: Background/Objectives/Overview/etc.: This notice is issued on behalf of the NITRD AWTP Team and the FMG. This virtual 5G workshop will focus on the Framework to Conduct 5G Testing. It will provide moderated exercises where participants will walk through the process identified in the framework document, with two selected Federal 5G use cases. The workshop will be held virtually on April 27-28, 2021 from 10 a.m. (ET) to 1:30 p.m. (ET) each day.

Objectives

• Provide an overview of the process (“How to use the framework to build a test capability”) as well as the testing framework modules or elements in the 5G testing framework whitepaper, needed to conduct 5G testing for different use cases.

• Learn about federal 5G use cases and requirements from key stakeholders.

• Hear from the testbed vendor and research community about the requirements, resources, approaches of building or operating a 5G infrastructure testbed (with discussion of the capabilities and main modules in Radio Access Networks (RAN) and core), specifically for two innovative 5G use cases: Smart Warehouse and Unmanned Aerial Vehicle (UAV)/Drone.

• Learn more about the real-world methodologies of developing 5G testing cases with key performance indicators or testing metrics as well as of conducting 5G testing and experimentation with the 5G infrastructure testbed from the testbed vendors' and researchers' viewpoint. What are the challenges encountered?

• Collaborate with 5G testbed vendor and researcher community to understand how the 5G testbed framework whitepaper would add value. What aspects of the whitepaper do the testbed vendors and researchers find most useful in helping to build a 5G testbed, develop 5G testing cases, and conduct 5G testing? What are the lessons learned or gaps when applying the 5G testbed framework to real-world 5G testing and experimentation?

Intended Outcome

The intended outcomes of this workshop are to build awareness of the critical need for evolving 5G best-in-class test practices, and to connect 5G labs or testbeds with Federal agencies and 5G component vendors.

Submitted by the National Science Foundation in support of the Networking and Information Technology Research and Development (NITRD) National Coordination Office (NCO) on April 7, 2021.

Suzanne H. Plimpton,
Reports Clearance Officer, National Science Foundation.

[FR Doc. 2021-07471 Filed 4-9-21; 8:45 am]

BILLING CODE 7555-01-P